DEPARTMENT OF TRANSPORTATION

Pipeline and Hazardous Materials Safety Administration

[Docket No. PHMSA-2012-0302]

Pipeline Safety: Information Collection Activities

AGENCY: Pipeline and Hazardous Materials Safety Administration (PHMSA), DOT.

ACTION: Notice and Request for Comments on a Previously Approved Information Collection.

SUMMARY: In compliance with the Paperwork Reduction Act of 1995 (44 U.S.C. 3501 et seq.), this notice announces that the information collection under Office of Management and Budget (OMB) Control No. 2137-0605, titled “Integrity Management in High Consequence Areas for Operators of Hazardous Liquid Pipelines” is being forwarded to OMB for review and comments. A Federal Register notice with a 60-day comment period soliciting comments on this information collection was published on December 13, 2012, (77 FR 74276) under docket number PHMSA-2012-0302. No comments were received. The purpose of this notice is to allow the public an additional 30 days to send comments to OMB on the information collection as described below.

DATES: Comments must be submitted on or before April 17, 2013.

ADDRESSES: Send comments regarding the burden estimate, including suggestions for reducing the burden, to OMB, Attention: Desk Officer for the Office of the Secretary of Transportation, 725 17th Street NW., Washington, DC 20503.

Comments are invited on: Whether the proposed collection of information is necessary for the proper performance of the functions of the Department, including whether the information will have practical utility, the accuracy of the Department's estimate of the burden of the proposed information collection, ways to enhance the quality, utility and clarity of the information to be collected, and ways to minimize the burden of the collection of information on respondents, including the use of automated collection techniques or other forms of information technology.

FOR FURTHER INFORMATION CONTACT: Angela Dow by telephone at 202-366-1246, by fax at 202-366-4566, or by mail at U.S. Department of Transportation, PHMSA, 1200 New Jersey Avenue SE., PHP-30, Washington, DC 20590-0001.

SUPPLEMENTARY INFORMATION:

Title: Integrity Management in High Consequence Areas for Operators of Hazardous Liquid Pipelines.

OMB Control Number: 2137-0605.

Current Expiration Date: 05/31/2013.

Abstract: Hazardous liquid operators with pipelines located in or that could affect high consequence areas (i.e., commercially navigable waterways, high population areas, other populated areas, and unusually sensitive areas as defined in 49 CFR 195.450) are subject to certain information collection requirements relative to the Integrity Management Program provisions of 49 CFR 195.452.

Affected Public: All pipeline operators of hazardous liquid pipelines located in or that could affect high consequence areas.

Annual Reporting and Recordkeeping Burden:

Annual Responses: 203.

Annual Burden Hours: 325,470.

Frequency of collection: On occasion.

Authority: The Paperwork Reduction Act of 1995; 44 U.S.C. Chapter 35, as amended, and 49 CFR 1.48.

Issued in Washington, DC, on March 12, 2013.
John A. Gale,
Director, Office of Standards and Rulemaking.

[FR Doc. 2013-06129 Filed 3-15-13; 8:45 am]

BILLING CODE 4910-60-P